DEPARTMENT OF TRANSPORTATION

Federal Aviation Administration

14 CFR Part 39

[Docket No. 98-NM-381-AD; Amendment 39-11541; AD 2000-02-23]

RIN 2120-AA64

Airworthiness Directives; McDonnell Douglas Model DC-9, DC-9-80, and C-9 (Military) Series Airplanes, and Model MD-88 Airplanes

AGENCY: Federal Aviation Administration, DOT.

ACTION: Final rule.

SUMMARY: This amendment adopts a new airworthiness directive (AD), applicable to certain McDonnell Douglas Model DC-9, DC-9-80, and C-9 (military) series airplanes, and Model MD-88 airplanes, that requires a one-time inspection to determine the type of engine ignition switch installed in the hinged forward overhead switch panel, and replacement of certain rotary ignition switches with new design rotary ignition switches. This amendment is prompted by reports of smoke in the flight compartment during engine ignition selection. The actions specified by this AD are intended to prevent an internal electrical short in the engine ignition switch, which could result in smoke in the flight compartment.

DATES: Effective March 9, 2000.

The incorporation by reference of certain publications listed in the regulations is approved by the Director of the Federal Register as of March 9, 2000.

ADDRESSES: The service information referenced in this AD may be obtained from Boeing Commercial Aircraft Group, Long Beach Division, 3855 Lakewood Boulevard, Long Beach, California 90846, Attention: Technical Publications Business Administration, Dept. C1-L51 (2-60). This information may be examined at the Federal Aviation Administration (FAA), Transport Airplane Directorate, Rules Docket, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

FOR FURTHER INFORMATION CONTACT: Robert Baitoo, Aerospace Engineer, Propulsion Branch, ANM-140L, FAA, Transport Airplane Directorate, Los Angeles Aircraft Certification Office, 3960 Paramount Boulevard, Lakewood, California 90712-4137; telephone (562) 627-5245; fax (562) 627-5210.

SUPPLEMENTARY INFORMATION: A proposal to amend part 39 of the Federal Aviation Regulations (14 CFR part 39) to include an airworthiness directive (AD) that is applicable to certain McDonnell Douglas Model DC-9, DC-9-80, and C-9 (military) series airplanes, and Model MD-88 airplanes was published in the Federal Register on July 14, 1999 (64 FR 37911). That action proposed to require a one-time inspection to determine the type of engine ignition switch installed in the hinged forward overhead switch panel, and replacement of certain rotary ignition switches with new design rotary ignition switches.

Interested persons have been afforded an opportunity to participate in the making of this amendment. Due consideration has been given to the comments received.

Support for the Proposal

One commenter supports the proposed rule.

Request for Clarification of Certain Requirements

One commenter request that the FAA clarify the requirements of paragraph (a) of the proposed AD. The commenter states that paragraph (a) of the proposed AD requires the visual inspection be accomplished in accordance with McDonnell Douglas Service Bulletin DC9-74-001, dated May 23, 1997, or McDonnell Douglas Alert Service Bulletin DC9-74A001, Revision 01, dated October 26, 1998. The commenter notes that Service Bulletin DC9-74-001 addresses only the five position ignition switches, whereas Alert Service Bulletin DC9-74A001 addresses both the four and five position ignition switches. The commenter states that using Service Bulletin DC9-74-001 instead of Alert Service Bulletin DC9-74A001 could result in the suspect four position switches not being removed.

The FAA concurs with the commenter that clarification is necessary. Because only the alert service bulletin provides instructions to address both types of switches, it is the only service bulletin referenced in the final rule for that purpose. The FAA has added a new note to clarify that inspection of the five position switches prior to the effective date of the AD in accordance with McDonnell Douglas Service Bulletin DC9-74001, dated May 23, 1997, is considered acceptable for compliance with paragraph (a) of this AD.

Request To Include Additional Spares Affected

One commenter requests that the FAA clarify what spare parts are affected by paragraph (b) of the proposed AD. The commenter states that paragraphs (a)(2)(i) and (a)(2)(ii) require that both four position and five position “old” style rotary ignition switches be replaced in accordance with McDonnell Douglas Alert Service Bulletin DC9-74A001. However, the commenter points out that paragraph (b) of the proposed AD addresses only the four position ignition switches.

The FAA concurs with the commenter's request that clarification is necessary. The omission of the five position ignition switches was an error. The FAA has revised paragraph (b) of the final rule accordingly.

Conclusion

After careful review of the available data, including the comments noted above, the FAA has determined that air safety and the public interest require the adoption of the rule with the changes previously described. The FAA has determined that these changes will neither increase the economic burden on any operator nor increase the scope of the AD.

Cost Impact

There are approximately 2,000 airplanes of the affected design in the worldwide fleet. The FAA estimates that 1,000 airplanes of U.S. registry will be affected by this AD, that it will take approximately 1 work hour per airplane to accomplish the required inspection, and that the average labor rate is $60 per work hour. Based on these figures, the cost impact of the inspection required by this AD on U.S. operators is estimated to be $60,000, or $60 per airplane.

The cost impact figure discussed above is based on assumptions that no operator has yet accomplished any of the requirements of this AD action, and that no operator would accomplish those actions in the future if this AD were not adopted.

Regulatory Impact

The regulations adopted herein will not have substantial direct effects on the States, on the relationship between the national government and the States, or on the distribution of power and responsibilities among the various levels of government. Therefore, in accordance with Executive Order 12612, it is determined that this final rule does not have sufficient federalism implications to warrant the preparation of a Federalism Assessment.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-02-23 McDonnell Douglas: Amendment 39-11541. Docket 98-NM-381-AD.

Applicability: Model DC-9-10, -20, -30, -40, and -50 series airplanes; Model DC-9-81 (MD-81), DC-9-82 (MD-82), DC-9-83 (MD-83), and DC-9-87 (MD-87) series airplanes; Model MD-88 airplanes; and C-9 (military) series airplanes; as listed in McDonnell Douglas Alert Service Bulletin DC9-74A001, Revision 01, dated October 26, 1998; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent an internal electrical short in the engine ignition switch, which could result in smoke in the flight compartment, accomplish the following:

Inspection and Corrective Action

(a) Within 8 months after the effective date of this AD, visually inspect the engine ignition switch to determine what type of switch (rotary or toggle) is installed in the hinged forward overhead switch panel, in accordance with McDonnell Douglas Service Bulletin DC9-74-001, dated May 23, 1997, or McDonnell Douglas Alert Service Bulletin DC9-74A001, Revision 01, dated October 26, 1998.

Note 2: Inspection of the five position ignition switches prior the effective date of the AD in accordance with McDonnell Douglas Service Bulletin DC9-74001, dated May 23, 1997, is considered acceptable for compliance with paragraph (a) of this AD.

(1) If the switch is a toggle type, no further action is required by this AD.

(2) If the switch is a rotary type, prior to further flight, determine the switch part number in accordance with the service bulletin.

(i) If the switch has part number 79-2318 (5D0423-2) or 79-2355, no further action is required by this AD.

(ii) If the switch has any part number other than that identified in paragraph (a)(2)(i) of this AD, prior to further flight, replace the engine ignition switch with a new design ignition switch in accordance with the service bulletin.

Spares Affected

(b) As of the effective date of this AD, no person shall install a four position rotary ignition type switch, part number (P/N) 79-2081, 69-1966, or 34064; or a five position rotary type ignition switch, P/N 79-2055 (5D0423-1), 69-1967, 53306-033, or 3600-3076; on any airplane.

Alternative Methods of Compliance

(c) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with McDonnell Douglas Service Bulletin DC9-74-001, dated May 23, 1997; or McDonnell Douglas Alert Service Bulletin DC9-74A001, Revision 01, dated October 26, 1998. This incorporation by reference was approved by the Director of the Federal Register in accordance with 5 U.S.C. 552(a) and 1 CFR part 51. Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

(f) This amendment becomes effective on March 9, 2000.

Issued in Renton, Washington, on January 25, 2000.
Donald L. Riggin,
Acting Manager, Transport Airplane Directorate, Aircraft Certification Service.

[FR Doc. 00-2084 Filed 2-2-00; 8:45 am]

BILLING CODE 4910-13-U